GENERAL SERVICES ADMINISTRATION

[Notice-MK-2017-02; Docket No. 2017-0002; Sequence 12]

The Presidential Commission on Election Integrity (PCEI); Upcoming Public Advisory Meeting

AGENCY: Office of Government-wide Policy (OGP), General Services Administration (GSA).

ACTION: Supplemental meeting notice.

SUMMARY: The Presidential Advisory Commission on Election Integrity (Commission), a Federal Advisory Committee established in accordance with the Federal Advisory Committee Act (FACA), and Executive Order 13799, will hold its first meeting on Wednesday, July 19, 2017. This meeting will consist of a ceremonial swearing in of Commission members, introductions and statements from members, a discussion of the Commission's charge and objectives, possible comments or presentations from invited experts, and a discussion of next steps and related matters. The General Services Administration is announcing this meeting with less than 15 calendar days' public notice as July 4th is a federal holiday, thus delaying the administrative processing of this notice.

DATES: Meeting Date: The first Commission meeting will be held on Wednesday, July 19, 2017, from 11:00 a.m., Eastern Daylight Time (EDT) until no later than 5:00 p.m., EDT.

ADDRESSES: The meeting will be held at the Eisenhower Executive Office Building, Room 350, located at 1650 Pennsylvania Avenue NW., Washington, DC 20502. It will be open to the public through livestreaming on https://www.whitehouse.gov/live.

FOR FURTHER INFORMATION CONTACT: To obtain information about the Commission or to submit written comments for the Commission's consideration, contact the Commission's Designated Federal Officer, Andrew Kossack, via email at ElectionIntegrityStaff@ovp.eop.gov or telephone at 202-456-3794. Please note the Commission may post written comments publicly, including names and contact information, in accordance with the provisions of FACA (5 U.S.C. App.). There will not be oral comments from the public at this initial meeting.

The Commission will provide individuals interested in providing oral comments the opportunity to do so at subsequent meetings. Requests to accommodate disabilities with respect to livestreaming or otherwise should also be sent to the email address listed above, preferably at least 10 days prior to the meeting to allow time for processing.

SUPPLEMENTARY INFORMATION: The Commission was established in accordance with E.O. 13799 of March 11, 2017 (https://www.federalregister.gov/documents/2017/05/16/2017-10003/establishment-of-presidential-advisory-commission-on-election-integrity), the Commission's charter, and the provisions of FACA. The Commission will, consistent with applicable law and E.O. 13799, study the registration and voting processes used in Federal elections. The Commission shall be solely advisory and shall submit a report to the President of the United States that identifies the following:

a. Those laws, rules, policies, activities, strategies, and practices that enhance the American people's confidence in the integrity of the voting processes used in Federal elections;

b. those laws, rules, policies, activities, strategies, and practices that undermine the American people's confidence in the integrity of voting processes used in Federal elections; and

c. those vulnerabilities in voting systems and practices used for Federal elections that could lead to improper voter registrations and improper voting, including fraudulent voter registrations and fraudulent voting.

Dated: July 3, 2017.
Alexander J. Kurien,
Deputy Associate Administrator, Office of Asset & Transportation Management, Office of Government-wide Policy.

[FR Doc. 2017-14311 Filed 7-3-17; 4:15 pm]

BILLING CODE 6820-61-P